DEPARTMENT OF AGRICULTURE

Agricultural Marketing Service

7 CFR Parts 1000, 1001, 1005, 1006, 1007, 1030, 1032, 1033, 1124, 1126, 1131, and 1135

[Docket No. AO-14-A69, et al.; DA-00-03]

Milk in the Northeast and Other Marketing Areas; Referendum Order; Determination of Representative Period and Designation of Referendum Agent

AGENCY: Agricultural Marketing Service, USDA.

ACTION: Referendum Order.

SUMMARY: This document announces a referendum to be conducted to determine whether producers favor issuance of the order regulating the handling of milk in the Upper Midwest marketing area, as proposed to be amended in the tentative final decision issued by the Deputy Under Secretary on November 29, 2000 (65 FR 76831), regarding the pricing formulas for milk used in Class III and Class IV.

DATES: The referendum is to be completed on or before December 29, 2000.

FOR FURTHER INFORMATION CONTACT: Constance M. Brenner, Marketing Specialist, USDA/AMS/Dairy Programs, Order Formulation Branch, Room 2968 South Building, P.O. Box 96456, Washington, DC 20090-6456, (202) 720-2357, e-mail address connie.brenner@usda.gov.

SUPPLEMENTARY INFORMATION: Prior documents in this proceeding:

Notice of Hearing: Issued April 6, 2000; published April 14, 2000 (65 FR 20094).

Tentative Final Decision: Issued November 29, 2000; published December 7, 2000 (65 FR 76831).

On November 29, 2000, the Deputy Under Secretary, Marketing and Regulatory Programs, issued a tentative final decision on proposed amendments to the Class III and Class IV pricing formulas for Federal milk orders, as required by the Consolidated Appropriations Act, 2000 (P.L. 106-113, 115 Stat. 1501).

Each of the eleven Federal milk orders must be approved by the producers whose milk would be pooled under the order. The tentative final decision included a referendum order for two Federal milk orders, the Northeast and Mideast, for which approval by the necessary two-thirds of producers, or by producers who produced at least two-thirds of the total milk produced under the order, could not be determined by means other than referenda of all producers and cooperative associations that bloc vote. After issuance of the tentative final decision, it was determined that approval of the Upper Midwest order also would require a referendum of all producers and bloc-voting cooperative associations. Accordingly, the following referendum order is issued to determine approval of the Upper Midwest order as amended by the provisions contained in the tentative final decision.

7 CFR Part | Marketing Area | AO Nos.
1001 | Northeast | AO-14-A69.
1005 | Appalachian | AO-388-A11.
1006 | Florida | AO-356-A34.
1007 | Southeast | AO-366-A40.
1030 | Upper Midwest | AO-361-A34.
1032 | Central | AO-313-A43.
1033 | Mideast | AO-166-A67.
1124 | Pacific Northwest | AO-368-A27.
1126 | Southwest | AO-231-A65.
1131 | Arizona-Las Vegas | AO-271-A35.
1135 | Western | AO-380-A17.

Referendum Order To Determine Producer Approval; Determination of Representative Period; and Designation of Referendum Agent

It is hereby directed that a referendum be conducted to determine whether the issuance of the order regulating the handling of milk in the Upper Midwest marketing area, as amended by the tentative final decision issued on November 29, 2000 (65 FR 76831), is approved by at least two-thirds of the producers, or by producers who produced at least two-thirds of the total milk produced during the representative period.

The month of September 2000 is hereby determined to be the representative period for the conduct of such referendum.

H. Paul Kyburz is hereby designated agent of the Secretary to conduct such referendum in accordance with the procedure for the conduct of referenda (7 CFR 900.300 et seq.)

Such referendum shall be completed on or before 30 days from the issuance of the tentative final decision.

List of Subjects in 7 CFR Parts 1000, 1001, 1005, 1006, 1007, 1030, 1032, 1033, 1124, 1126, 1131, and 1135

Milk marketing orders.

Authority: 7 U.S.C. 601-674.

Dated: December 8, 2000.
Kenneth C. Clayton,
Associate Administrator, Agricultural Marketing Service.

[FR Doc. 00-31762 Filed 12-11-00; 10:11 am]

BILLING CODE 3410-02-P